DEPARTMENT OF THE INTERIOR

National Park Service

National Register of Historic Places; Notification of Pending Nominations

Nominations for the following properties being considered for listing in the National Register were received by the National Park Service before April 19, 2003. Pursuant to section 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington DC 20005; or by fax, (202) 343-1836. Written or faxed comments should be submitted by May 28, 2003.

Carol D. Shull,
Keeper of the National Register of Historic Places.

ARIZONA

Yavapai County

Hassayampa Historic District, 1089-1112 Old Hassayampa Ln., 1106 Country Club Dr., Prescott, 03000469

ARKANSAS

Carroll County

Quigley's Castle, 274 Quigley's Castle Rd., Eureka Springs, 03000467

Hempstead County

Oak Grove Missionary Baptist Church, Cty Rd. 16, Blevins, 03000463

Hot Spring County

Hot Springs Railroad Roundhouse, 132 Front St., Malvern, 03000462

Lincoln County

Rice Family Cemetery, Jct. of U.S. 65 and AR 388, Varner, 03000464

Marion County

Berry's, J.C., Dry Goods Store, 331 Old South Main St., Yellville, 03000468

Monroe County

Memphis to Little Rock Road—Henard Cemetery Road Segment, (Cherokee Trail of Tears MPS), Henard Cemetery Rd., Zent, 03000470

Sebastian County

Maness Schoolhouse, 8801 Wells Lake Rd., Barling, 03000466

Washington County

Fitzgerald Station and Farmstead, 2327 Old Wire Rd. and 1567 Dodd Ave., Springdale, 03000465

CALIFORNIA

Contra Costa County

Atchison Village Defense Housing Project, Cal. 4171-X, Roughly bounded by MacDonald Ave., Ohio St., First St., and Garrard Blvd., Richmond, 03000473

San Bernardino County

Maloof, Sam and Alfreda, Compound, 5131 Carnelian St., Alta Loma, 03000471

San Diego County

Rosecroft, 530 Silvergate Ave., San Diego, 03000472

GEORGIA

Monroe County

State Teachers and Agricultural College for Negroes Women's Dormitory and Teachers' Cottage, Martin Luther King Dr., Forsyth, 03000475.

IOWA

Linn County

Grant Wood's “Fall Plowing” Rural Historic Landscape District, 0.5 mi. N of jct. of Matsell Ln. and Stone City Rd., Viola, 03000476

KANSAS

Marshall County

Robidoux Creek Pratt Truss Bridge, (Metal Truss Bridges in Kansas 1861—1939 MPS) Sunflower Rd., 0.8 mi. W of jct. with 21st Rd., NW., of Frankfort, Frankfort, 03000474

MISSOURI

St. Louis Independent City, Building at 3910-12 Laclede Ave., 3910-12 Laclede Ave., St. Louis (Independent City), 03000478

Gerhart Block, 3900-08 Laclede Ave., 1-17 Vandeventer, St. Louis (Independent City), 03000477

NEW JERSEY

Bergen County

Maywood Railroad Station, 271 Maywood Ave., Maywood, 03000487

NEW MEXICO

McKinley County

Southwestern Range and Sheep Breeding Laboratory Historic District, Fort Wingate Work Center, Cibola National Forest, Fort Wingate, 03000488

NEW YORK

Niagara County

Conkey House, (Stone Buildings of Lockport, New York MPS), 202 Akron St., Lockport, 03000479

Dole House, (Stone Buildings of Lockport, New York MPS), 74 Niagara St., Lockport, 03000485

Gibbs House, (Stone Buildings of Lockport, New York MPS), 98 N. Transit St., Lockport, 03000482

Hopkins House, (Stone Buildings of Lockport, New York MPS), 83 Monroe St., Lockport, 03000480

Maloney House, (Stone Buildings of Lockport, New York MPS), 279 Caledonia St., Lockport, 03000481

Stickney House, (Stone Buildings of Lockport, New York MPS), 133 Lock St., Lockport, 03000483

Watson House, (Stone Buildings of Lockport, New York MPS), 129 Outwater Dr., Lockport, 03000486

White—Pound House, (Stone Buildings of Lockport, New York MPS), 140 Pine St., Lockport, 03000484

PENNSYLVANIA

Bedford County

Everett Historic District, (Lincoln Highway Heritage Corridor Historic Resources: Franklin to Westmoreland Counties MPS), Roughly bounded by W. Fifth, Borough, Hill Sts., River Ln., South St. Barndollar Ave., Everett, 03000492

Butler County

Butler Historic District, (Oil Industry Resources in Western Pennsylvania MPS), Roughly bounded by N. Church St., Walnut St., Franklin St. and Wayne St., Butler, 03000490

Jefferson County

Brockwayville Passenger Depot, Buffalo, Rochester and Pittsburgh Railroad, Alexander Street at Fourth Ave., Brockway, 03000489

Mercer County

First Universalist Church of Sharpsville, 131 N. Mercer Ave., Sharpsville, 03000491

Perry County

Lupfer, Israel and Samuel, Tannery Site and House, Black Hollow Rd., SW of Toboyne/Jackson Townships, Toboyne, 03000493

RHODE ISLAND

Providence County

Summit Historic District, Summit Ave., Rochambeau Ave., Camp St., Memorial Rd., Creston Way, Providence, 03000495

Westminster Street Historic District, Roughly along Westminster St. bet. Stewart St. and Sawins Ln., Providence, 03000494

SOUTH DAKOTA

Buffalo County

Talking Crow Archeological Site, Address Restricted, Fort Thompson, 03000505

Gregory County

Herrick Elevator, US 18, Herrick, 03000498

Lawrence County

Walsh Barn, 0.5 mi. W of jct. of Upper Redwater Rd. and 104th Ave., Spearfish, 03000500

Lincoln County

Norway Center Store, 29339 SD 11, Hudson, 03000496

Lyman County

Dinehart Village Archeological Site, Address Restricted, Oacoma, 03000501

King Archeological Site, Address Restricted, Oacoma, 03000502

Minnehaha County

Cherry Rock Park Bridge, (Historic Bridges in South Dakota MPS AD), Cherry Rock Park, Sioux Falls, 03000499

Willow Grove Farm, (Federal Relief Construction in South Dakota MPS), 47480 258th Ave., Renner, 03000497

Stanley County

Breeden Village, Address Restricted, Fort Pierre, 03000503

Sully County

Cooper Village Archeological Site, Address Restricted, Onida, 03000504

WISCONSIN

Waupaca County

Mead Bank, 215 Jefferson St., Waupaca, 03000506

[FR Doc. 03-11860 Filed 5-12-03; 8:45 am]

BILLING CODE 4312-51-P